DEPARTMENT OF THE INTERIOR

Fish and Wildlife Service

[FWS-R5-R-2015-N216; BAC-4333-99]

Chincoteague National Wildlife Refuge and Wallops Island National Wildlife Refuge, Accomack County, VA; Record of Decision for Final Environmental Impact Statement

AGENCY: Fish and Wildlife Service, Interior.

ACTION: Notice of availability; final comprehensive conservation plan and record of decision.

SUMMARY: We, the U.S. Fish and Wildlife Service (Service), announce the availability of the final comprehensive conservation plan (CCP) and record of decision (ROD) for Chincoteague National Wildlife Refuge (NWR) and Wallops Island NWR. We prepared this ROD pursuant to the National Environmental Policy Act of 1969 (NEPA) and its implementing regulations. The Service is furnishing this notice to advise the public and other agencies of our decision and of the availability of the ROD.

DATES: The ROD was signed on November 6, 2015.

ADDRESSES: You may view or obtain copies of the final CCP and ROD by any of the following methods.

Agency Web site: Download a copy of the document at http://www.fws.gov/refuge/Chincoteague/what_we_do/conservation.html.

Email: Send requests to northeastplanning@fws.gov. Include “Chincoteague NWR” in the subject line of your email.

U.S. Mail: Thomas Bonetti, Natural Resource Planner, U.S. Fish and Wildlife Service, 300 Westgate Center Drive, Hadley, MA 01035.

In-Person Viewing or Pickup: Visit during regular business hours at refuge headquarters, 8231 Beach Road, Chincoteague Island, VA 23336.

FOR FURTHER INFORMATION CONTACT: Thomas Bonetti, Natural Resource Planner, 413-253-8307 (phone); northeastplanning@fws.gov (email).

SUPPLEMENTARY INFORMATION:

Introduction

With this notice, we finalize the CCP process for Chincoteague NWR and Wallops Island NWR. We began this process through a notice of intent in the Federal Register (75 FR 57056) on September 17, 2010. For more about the initial process and the history of the refuges, see that notice. On May 15, 2014, we announced the release of the draft CCP/Environmental Impact Statement (EIS) to the public and requested comments in a notice of availability in the Federal Register (79 FR 27906). We subsequently extended the public comment period in another notice in the Federal Register (79 FR 41300) on July 15, 2014. We released the final CCP/EIS for public review on September 11, 2015 (80 FR 54799).

In the draft and final CCP/EIS, we evaluated three alternatives for managing the refuge and completed a thorough analysis of the environmental, social, and economic considerations of each alternative. Based on comments received on the draft CCP/EIS, we made minor modifications to alternative B, the Service's preferred alternative in the final CCP/EIS. During the public review period for the final CCP/EIS, we did not receive any comments that raised significant new issues, resulted in changes to our analysis, or warranted any further changes to alternative B.

In accordance with NEPA (40 CFR 1506.6(b)) requirements, this notice announces our decision to select alternative B for implementation and the availability of the ROD and final CCP for Chincoteague NWR and Wallops Island NWR. The final CCP will guide our management and administration of the refuges over the next 15 years.

Background

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System (Refuge System). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

CCP Alternatives

During the scoping phase of the planning process, we identified issues and concerns based on input from the public, State or Federal agencies, other Service programs, and our planning team. We developed refuge management alternatives to address issues; help achieve refuge goals, objectives, and purposes; and support the Refuge System mission. Our draft CCP/EIS (79 FR 27906) and final CCP/EIS (80 FR 54799) fully analyze three alternatives for the future management of the refuge: (1) Alternative A, Current Management; (2) Alternative B, Balanced Approach; and (3) Alternative C, Reduced Disturbance. Alternative A satisfies the NEPA requirement of a “No Action” alternative. Both the draft and final plans identify alternative B as the Service-preferred alternative. Please refer to the final CCP/EIS for more details on each of the alternatives.

Basis for Selected Alternative

Our decision is to adopt alternative B, as described in the final CCP. We provide a brief summary of our decision below. For the full basis of our decision, please see the ROD (see ADDRESSES).

The decision to adopt alternative B for implementation was made after considering the follow factors: (1) The impacts identified in Chapter 4, Environmental Consequences, of the draft and final CCP/EIS; (2) The results of public and agency comments; (3) How well the alternative achieves the stated purpose and need for a CCP and the seven goals presented in the final CCP/EIS chapter 1; (4) How well the alternative addresses the relevant issues, concerns, and opportunities identified in the planning process; and (5) Other relevant factors, including fulfilling the purposes for which the refuge was established, contributing to the mission and goals of the Refuge System, and statutory and regulatory guidance.

Compared to the other two alternatives, alternative B includes the suite of actions that best meet the factors above using the most balanced and integrated approach, and with due consideration for both the biological and human environment. Alternative B will best fulfill the CCP's biological goals, by managing for particular Federal trust species and habitats that are of regional conservation concern. It clearly defines which Federal trust species and habitat will be a management priority in both uplands and wetlands, and details specific objectives and strategies for their management. The refuge's establishment purposes emphasize the conservation of migratory birds; thus, protecting the biological integrity, diversity, and environmental health of Chincoteague NWR and its habitat and wildlife, particularly migratory birds, is paramount.

In summary, we selected alternative B for implementation because it best meets the factors identified above when compared to alternatives A and C. Alternative B provides the greatest number of opportunities for Chincoteague NWR and Wallops Island NWR to contribute to the conservation of fish, wildlife, and habitat in the Region, will increase the capacity of the refuges to meet their purposes and contribute to the Refuge System mission, and will provide the means to better respond to changing ecological conditions within the surrounding environment.

Public Availability of Documents

You can view or obtain the final CCP and ROD as indicated under ADDRESSES.

Dated: December 9, 2015.
Wendi Weber,
Regional Director, Northeast Region, U.S. Fish and Wildlife Service.

[FR Doc. 2016-00176 Filed 1-7-16; 8:45 am]

BILLING CODE 4333-15-P